DEPARTMENT OF THE TREASURY

Internal Revenue Service

Proposed Collection; Comment Request for 637 Registration Program

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning the 637 Registration Program.

DATES: Written comments should be received on or before April 11, 2014 to be assured of consideration.

ADDRESSES: Direct all written comments to Christie Preston, Internal Revenue Service, Room 6129, 1111 Constitution Avenue NW., Washington, DC 20224.

FOR FURTHER INFORMATION CONTACT: Requests for additional information on the burden related to the 637 registration program should be directed to R. Joseph Durbala, (202)-317-5746, at Internal Revenue Service, room 6129, 1111 Constitution Avenue NW., Washington, DC 20224, or through the Internet at RJoseph.Durbala@irs.gov.

SUPPLEMENTARY INFORMATION:

Title: 637 Registration Program.

OMB Number: 1545-1835.

Form Number: 637

Abstract: The authority for the requirement for registration is found in Internal Revenue Code sections 4101 (Fuel Taxes), 4222 (Retailers and Manufacturers Excise Taxes), 4682 (Ozone-depleting Chemicals Tax), and the regulations. Form 637, Application for Registration (For Certain Excise Tax Activities) is used to apply for excise tax registration for activities under sections 4101, 4222, and 4682. Common activities for which persons are registered include that of a refiner, terminal operator, position holder, throughputter, ultimate vendor, first retail seller of certain heavy vehicles, manufacturer of sport fishing equipment, and to file a claim. The information will be used to make an informed decision on whether the applicant/registrant qualifies for registration.

Current Actions: There are no changes being made to the burden associated with the collection tools at this time. However, this request will be used to combine the associated burden of 1545-0014 into this approval number.

Type of Review: Revision of a currently approved collection.

Affected Public: Business or other for-profit organizations.

Estimated Number of Respondents: 4,840.

Estimated Average Time per Respondent: 6 hours, 30 minutes.

Estimated Total Annual Burden Hours: 30,499.

The following paragraph applies to all of the collections of information covered by this notice:

An agency may not conduct or sponsor, and a person is not required to respond to, a collection of information unless the collection of information displays a valid OMB control number.

Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 4, 2014.
Christie Preston,
Supervisory Tax Analyst, Internal Revenue Service.

[FR Doc. 2014-02844 Filed 2-7-14; 8:45 am]

BILLING CODE 4830-01-P